NATIONAL ARCHIVES AND RECORDS ADMINISTRATION

[NARA-2021-022]

Privacy Act of 1974; System of Records

AGENCY: National Archives and Records Administration (NARA).

ACTION: Notice revising a system of records.

SUMMARY: We propose to revise a system of records in our existing inventory of systems subject to the Privacy Act of 1974. The system is NARA 1, Researcher Application Files. We are adding a new purpose/routine use to notify researchers who use our facilities if they might have been exposed to COVID-19 while at our facility, to allow for similar notifications in the event of future public health emergencies, and to allow notification of health departments for collaborative efforts to address exposure and meet reporting requirements. We are also updating the SORN to reorganize the SORN into the current required format. In this notice, we publish the system of records notice in full for public notice and comment.

DATES: Submit comments on this system of records by April 15, 2022. This revised systems of records, NARA 1, is effective on April 25, 2022 unless we receive comments that necessitate revising the SORN.

ADDRESSES: You may submit comments, identified by “SORN NARA 1” by one of the following methods:

• Federal eRulemaking Portal: http://www.regulations.gov. Follow the instructions for submitting comments.

• Due to COVID-19 restrictions, we do not have staff at the building to receive mail, so we are temporarily suspending the mailing option. If you are not able to submit comments using the eRulemaking portal and need to make other arrangements, please email us at regulation_comments@nara.gov and we will work with you on an alternative.

Instructions: All submissions must include SORN NARA 1 so we can identify what the comment is responding to. We may publish any comments we receive without changes, including any personal information you include.

FOR FURTHER INFORMATION CONTACT: Kimberly Keravuori, Regulatory and External Policy Program Manager, by email at regulation_comments@nara.gov or by phone at 301.837.3151.

SUPPLEMENTARY INFORMATION: Our Researcher Application Files system of records (NARA 1) includes personal and contact information we collect from members of the public who use our facilities for research purposes. Due to the COVID-19 pandemic and requests to report and track cases of confirmed coronavirus infection, we are revising this system of records in order to add a new purpose/routine use. In addition to other purposes previously identified, we will use the researcher contact information to contact the researcher if they were in one of our research facilities on a given day and we later receive notice of a confirmed case of the coronavirus in another person who was also in the facility that day, to notify researchers of other local or facility-specific health information as appropriate, and to provide researchers with updates related to researcher services.

We do not provide personal or health information about another person in these notifications. In the case of COVID-19 notifications, we just notify visitors that there was a confirmed case in that facility on the same day they were there, so that the recipient can take appropriate actions to determine whether they have been infected as well, identify where and when, minimize exposure to others, and receive treatment as needed. In anticipation of possible future needs for similar notifications in other crisis situations, we have written the new purpose to not be COVID-19-specific and to allow additional kinds of researcher services updates, and we have also added a new routine use for reporting exposures to health departments and officials as required, as well as to facilitate efforts to address exposure.

The Privacy Act of 1974, as amended (5 U.S.C. 552a) (“Privacy Act”), provides certain safeguards for an individual against an invasion of personal privacy. It requires Federal agencies that disseminate any record of personally identifiable information to do so in a manner that assures the action is for a necessary and lawful purpose, the information is current and accurate for its intended use, and the agency provides adequate safeguards to prevent misuse of such information. NARA intends to follow these principles when transferring information to another agency or individual as a “routine use,” including assuring that the information is relevant for the purposes for which it is transferred.

David S. Ferriero,
Archivist of the United States.

NARA 1

SYSTEM NAME AND NUMBER:

Researcher Application Files,NARA 1.

SECURITY CLASSIFICATION:

Unclassified.

SYSTEM LOCATION:

The following locations maintain researcher application files:

(1) Individual Presidential libraries, and

(2) Office of Research Services.

The system address is the same as the system manager address.

SYSTEM MANAGER(S):

The system managers for researcher application files are:

(1) For researchers who apply to use records or archival materials in a Presidential library: The director of the individual Presidential library; and

(2) For researchers who apply to use records or archival materials in any other facility: Executive for Research Services.

The business addresses for these system managers are listed in Appendix B, last republished September 27, 2018 (83 FR 48869). As system manager contact information is subject to change, for the most up-to-date information visit our website at www.archives.gov/privacy/inventory.

AUTHORITY FOR MAINTAINING THE SYSTEM:

44 U.S.C. 2108, 2111 note, and 2203(g)(1).

PURPOSE(S) OF THE SYSTEM:

NARA uses the information in this system to register researchers who wish to access archival materials; to maintain physical and intellectual control over archival holdings and to refer related information to the Office of Inspector General if we determine that archival materials are missing or mutilated; to disseminate information related to events and programs of interest to NARA's researchers, as appropriate; to enable contact tracing related to a public health emergency, such as a pandemic or epidemic, and to report exposures to public health departments, as required; and to measure customer satisfaction with NARA services. We may use aggregate information from this system to review, analyze, plan, and formulate policy related to customer service staffing and facility needs.

CATEGORIES OF INDIVIDUALS COVERED BY THE SYSTEM:

Individuals covered by this system include people who apply to use archival materials for research in NARA facilities.

CATEGORIES OF RECORDS IN THE SYSTEM:

Researcher application files may include: Researcher applications; related correspondence; and electronic records. These files may contain the following information about an individual: Name; address; telephone number; proposed research topic(s); occupation; name, email address, and mailing address of employer/institutional affiliation; educational level and major field of study; expected result(s) of research; photo; researcher card number; type of records used; and other information furnished by the individual. Electronic systems may also contain additional information related to the application process.

RECORD SOURCE CATEGORIES:

NARA obtains information in researcher application files from researchers and from NARA employees who maintain the files.

ROUTINE USES OF RECORDS MAINTAINED IN THE SYSTEM, INCLUDING CATEGORIES OF USERS AND THE PURPOSES OF SUCH USES:

We disclose, pursuant to the following routine uses, researcher application files to:

(a) Provide relevant information to Federal agencies such as the Department of Health and Human Services (HHS), state and local health departments, and other public health or cooperating medical authorities, to more effectively respond to exposures to communicable diseases, and to satisfy mandatory reporting requirements when applicable; and

(b) routine uses A, C, E, F, G, H, and I, described in Appendix A. Appendix A was last republished on December 20, 2013 (78 FR 77255, 77287). For the most up-to-date information, see the Appendix on our website at www.archives.gov/privacy/inventory.

POLICIES AND PRACTICES FOR STORING RECORDS:

Paper and electronic records.

POLICIES AND PRACTICES FOR RETRIEVING RECORDS:

Staff may retrieve information in the records by the individual's name, researcher card number, or any of the other fields in the researcher registration database.

POLICIES AND PRACTICES FOR RETAINING AND DISPOSING OF RECORDS:

Researcher application files are temporary records and we destroy them in accordance with disposition instructions in the NARA Records Schedule (a supplement to the NARA Files Maintenance and Records Disposition Manual). Individuals may request a copy of the disposition instructions from the NARA Privacy Act Officer (at the address listed in Appendix B).

ADMINISTRATIVE, TECHNICAL, AND PHYSICAL SAFEGUARDS:

During normal hours of operation, we maintain paper records in areas accessible only by authorized NARA personnel. Authorized NARA personnel access electronic records via password-protected workstations located in attended offices or through a secure remote-access network. After business hours, buildings have security guards and secured doors, and electronic surveillance equipment monitors all entrances.

RECORD ACCESS PROCEDURES:

People who wish to access their records should submit a request in writing to the NARA Privacy Act Officer at the address listed in Appendix B.

CONTESTING RECORDS PROCEDURES:

NARA's rules for contesting the contents of a person's records and appealing initial determinations are in 36 CFR part 1202.

NOTIFICATION PROCEDURES:

People inquiring about their records should notify the NARA Privacy Act Officer at the address listed in Appendix B.

EXEMPTIONS PROMULGATED FOR THE SYSTEM:

None.

HISTORY:

Last republished as a full notice on December 20, 2013 (78 FR 77255).

[FR Doc. 2022-05503 Filed 3-15-22; 8:45 am]

BILLING CODE 7515-01-P